DEPARTMENT OF THE INTERIOR

Bureau of Land Management

[LLMTL060-L16100000-DR0000]

Notice of Availability of the Record of Decision and Approved Resource Management Plan for the Missoula Field Office, Montana

AGENCY: Bureau of Land Management, Interior.

ACTION: Notice of availability.

SUMMARY: In accordance with the National Environmental Policy Act of 1969, as amended, and the Federal Land Policy and Management Act of 1976 (FLPMA), as amended, the Department of the Interior, Montana/Dakotas Bureau of Land Management (BLM) has prepared a Record of Decision and Approved Resource Management Plan (RMP) with an associated Final Environmental Impact Statement (EIS) for BLM public lands and resources managed by the Missoula Field Office, Montana. By this notice, the BLM is announcing the availability of the Record of Decision and Approved RMP.

ADDRESSES: Copies of the Record of Decision and Approved RMP are available at the Missoula Field Office, 3255 Fort Missoula Road, Missoula, MT 59804, or may be viewed online at: https://eplanning.blm.gov.

FOR FURTHER INFORMATION CONTACT: Maggie Ward, RMP Project Manager, Missoula Field Office, at telephone: (406) 329-3914, and at the mailing address and website listed earlier. Persons who use a telecommunications device for the deaf (TDD) may call the Federal Relay Service (FRS) at 1-800-877-8339 to contact Ms. Ward during normal business hours. The FRS is available 24 hours a day, 7 days a week, to leave a message or question. You will receive a reply during normal business hours.

SUPPLEMENTARY INFORMATION: The Missoula Approved RMP replaces the 1986 Garnet RMP. The Missoula Approved RMP provides a single, comprehensive land use plan that guides management on approximately 163,000 acres of BLM-managed public lands and 267,000 acres of Federal mineral estate in western Montana in Flathead, Granite, Lake, Lincoln, Mineral, Missoula, Powell, Ravalli, and Sanders counties. Over 99 percent of the BLM-managed public lands are in Granite, Missoula, and Powell counties.

The BLM developed the Missoula RMP in collaboration with three cooperating agencies. The alternative selected as the Approved RMP is Alternative B with components of sub-Alternative C, as described in the Proposed RMP. It provides for a balanced combination of goals, objectives, allowable uses and management actions.

The Notice of Availability for the Missoula Proposed RMP was published in the Federal Register on February 14, 2020, which initiated a 30-day protest period and a 60-day Governor's consistency review period (85 FR 8607). The BLM received 72 timely protest submissions. All protests have been resolved and/or dismissed. For a full description of the issues raised during the protest period and how they were addressed, please refer to the Director's Protest Resolution Report, which is available at the website in the ADDRESSES section earlier.

The Montana Governor submitted a letter identifying certain concerns related to the consistency of the Proposed RMP with State plans. After a thorough review, the BLM determined that the Approved RMP is consistent with existing State plans.

The Approved RMP identifies comprehensive long-range decisions for the management and use of resources on BLM-administered public lands, focusing on the principles of multiple use and sustained yield set forth in FLPMA.

Authority: 40 CFR 1506.6 and 43 CFR 1610.2

John Mehlhoff,
State Director, Montana/Dakotas BLM.

[FR Doc. 2020-16926 Filed 8-3-20; 8:45 am]

BILLING CODE 4310-DN-P